DEPARTMENT OF JUSTICE

Notice of Lodging of Consent Decree Under the Clean Water Act

Notice is hereby given that on February 26, 2008, a proposed consent decree (“decree”) in United States and State of Colorado v. Home Depot USA, Inc., Civil Action No. 1:08-cv-00115 was lodged with the United States District Court for the District of Delaware.

In this action the United States alleged violations of the construction storm water requirements of the Clean Water Act, its regulations, and applicable permits at numerous Home Depot construction sites in numerous states across the country. The consent decree requires Home Depot to implement a comprehensive, corporate-wide program to prevent storm water pollution at each new store it builds nationwide. Among other things, Home Depot must develop improved storm water pollution prevention plans for each site, perform increased inspections with its construction contractors and promptly correct any problems at its sites, and develop a training program for its construction managers and contractors on the federal storm water requirements. The company is also required to appoint a high-level company official to oversee compliance at all Home Depot construction sites and to implement a management and internal reporting system to improve oversight of on-the-ground operations. Home Depot must also pay a $1.3 million civil penalty, $35,000 of which is to be paid to Colorado.

The Department of Justice will receive for a period of thirty (30) days from the date of this publication comments relating to the decree. Comments should be addressed to the Assistant Attorney General, Environment and Natural Resources Division, and either e-mailed to pubcomment-ees.enrd@usdoj.gov or mailed to P.O. Box 7611, U.S. Department of Justice, Washington, DC 20044-7611, and should refer to United States and State of Colorado v. Home Depot USA, Inc., D.J. Ref. 90-5-1-1-08058. The decree may be examined at the Office of the United States Attorney, The Nemours Building, 1007 Orange Street, Suite 700, P.O. Box 2046, Wilmington, DE 19899-2046, and at the U.S. EPA Docket Center, 1301 Constitution Ave., NW, Washington, DC 20460. During the public comment period, the decree may also be examined on the following Department of Justice Web site: http://www.usdoj.gov/enrd/Consent_Decrees.html. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $25.25 (25 cents per page reproduction cost) payable to the U.S. Treasury or, if by e-mail or fax, forward a check in that amount to the Consent Decree Library at the stated address.

Karen S. Dworkin,
Assistant Chief, Environmental Enforcement Section, Environment and Natural Resources Division.

[FR Doc. E8-4125 Filed 3-4-08; 8:45 am]

BILLING CODE 4410-15-P